DEPARTMENT OF THE TREASURY

Internal Revenue Service

Low Income Taxpayer Clinic Grant Program; Availability of 2020 Grant Application Package

AGENCY: Internal Revenue Service (IRS), Treasury.

ACTION: Notice.

SUMMARY: This document contains a notice that the IRS has made available the 2020 Grant Application Package and Guidelines (Publication 3319) for organizations interested in applying for a Low Income Taxpayer Clinic (LITC) matching grant for the 2020 grant year, which runs from January 1, 2020, through December 31, 2020. The application period runs from May 1, 2019, through June 17, 2019.

DATES: All applications and requests for continued funding for the 2020 grant year must be filed electronically by 11:59 p.m. (Eastern Daylight Time) on June 17, 2019. The IRS is authorized to award multi-year grants not to exceed three years. For an organization not currently receiving a grant for 2019, an organization that received a single year grant in 2019, or an organization whose multi-year grant ends in 2019, the organization must apply electronically at www.grants.gov. For an organization currently receiving a grant for 2019 that is requesting funding for the second or third year of a multi-year grant, the organization must submit a request for continued funding electronically at www.grantsolutions.gov. All organizations must use the funding number of TREAS-GRANTS-052020-001, and the Catalog of Federal Domestic Assistance program number is 21.008. See https://beta.sam.gov/. The LITC Program Office is scheduling a webinar to cover the application process on May 15, 2019. See www.irs.gov/advocate/low-income-taxpayer-clinics for more details, including registration information.

FOR FURTHER INFORMATION CONTACT: Bill Beard at (949) 575-6200 (not a toll-free number) or by email at beard.william@irs.gov. The LITC Program Office is located at: IRS, Taxpayer Advocate Service, LITC Grant Program Administration Office, TA: LITC, 1111 Constitution Avenue NW, Room 1034, Washington, DC 20224. Copies of the 2020 Grant Application Package and Guidelines, IRS Publication 3319 (Rev. 5-2019, can be downloaded from the IRS internet site at www.irs.gov/advocate or ordered by calling the IRS Distribution Center toll-free at 1-800-829-3676.

SUPPLEMENTARY INFORMATION:

Background

Pursuant to Internal Revenue Code (IRC) section 7526, the IRS will annually award up to $6,000,000 (unless otherwise provided by specific Congressional appropriation) to qualified organizations, subject to the limitations set forth in the statute. Grants may be awarded for the development, expansion, or continuation of low income taxpayer clinics. For calendar year 2019, Congress appropriated a total of $12,000,000 in federal funds for LITC grants. See Public Law 116-6.

A qualified organization may receive a matching grant of up to $100,000 per year for up to a three-year project period. A qualified organization is one that represents low income taxpayers in controversies with the IRS and informs individuals for whom English is a second language (ESL taxpayers) of their taxpayer rights and responsibilities, and does not charge more than a nominal fee for its services (except for reimbursement of actual costs incurred).

Examples of qualified organizations include (1) a clinical program at an accredited law, business, or accounting school whose students represent low income taxpayers in tax controversies with the IRS and (2) an organization exempt from tax under IRC section 501(a) whose employees and volunteers represent low income taxpayers in controversies with the IRS and may also make referrals to qualified volunteers to provide representation.

A clinic will be treated as representing low income taxpayers in controversies with the IRS if at least 90 percent of the taxpayers represented by the clinic have incomes that do not exceed 250 percent of the federal poverty level. In addition, the amount in controversy for the tax year to which the controversy relates generally cannot exceed the amount specified in IRC section 7463 (currently $50,000) for eligibility for special small tax case procedures in the United States Tax Court. The IRS may award grants to qualified organizations to fund one-year, two-year, or three-year project periods. Grant funds may be awarded for start-up expenditures incurred by new clinics during the grant year.

Mission Statement

Low Income Taxpayer Clinics ensure the fairness and integrity of the tax system for taxpayers who are low income or speak English as a second language by, providing pro bono representation on their behalf in tax disputes with the IRS; educating them about their rights and responsibilities as taxpayers; and identifying and advocating for issues that impact them.

Selection Consideration

Despite the IRS's efforts to foster parity in availability and accessibility in the selection of organizations receiving LITC matching grants and the continued increase in clinic services nationwide, there remain communities that are underrepresented by clinics. Although each application and request for continued funding for the 2020 grant year will be given due consideration, the IRS will give special consideration to applicants from the following underserved geographic areas:

Arizona—Central

Florida—Mid-Florida and the panhandle

Hawaii—Entire State

Montana—Entire State

New York—Southeast Corner

North Dakota—Entire State

Pennsylvania—Northern

Puerto Rico—Entire Territory

West Virginia—Entire State

Wyoming—Entire State

A more detailed list of the underserved cities and counties within each state is available in Publication 3319 at www.irs.gov/pub/irs-pdf/p3319.pdf.

In determining whether to award a grant, the IRS will consider a variety of factors, including: (1) The number of taxpayers who will be assisted by the organization, including the number of ESL taxpayers in that geographic area; (2) the existence of other LITCs assisting the same population of low income and ESL taxpayers; (3) the quality of the program offered by the organization, including the qualifications of its administrators and qualified representatives, and its record, if any, in providing representation services to low income taxpayers; (4) the quality of the application, including the reasonableness of the proposed budget; (5) the organization's compliance with all federal tax obligations (filing and payment); (6) the organization's compliance with all federal nontax monetary obligations (filing and payment); (7) whether debarment or suspension (31 CFR part 19) applies or whether the organization is otherwise excluded from or ineligible for a federal award; and (8) alternative funding sources available to the organization, including amounts received from other grants and contributors and the endowment and resources of the institution sponsoring the organization.

Applications that pass the eligibility screening process will undergo a Technical Evaluation and must receive a minimum score to be considered further. Details regarding the scoring process can be found in Publication 3319. Applications achieving the minimum score will be subject to a Program Office evaluation. A request for continued funding from an organization currently receiving a grant for 2019 will also be subject to a Program Office evaluation. The final funding decision is made by the National Taxpayer Advocate, unless recused. The costs of preparing and submitting an application (or a request for continued funding) are the responsibility of each applicant. Applications and requests for continued funding may be released in response to Freedom of Information Act requests. Therefore, applicants must not include any individual taxpayer information.

The LITC Program Office will notify each applicant in writing once funding decisions have been made.

Nina E. Olson,
National Taxpayer Advocate.

[FR Doc. 2019-08971 Filed 5-1-19; 8:45 am]

BILLING CODE 4830-01-P